DEPARTMENT OF COMMERCE

International Trade Administration

[A-570-924]

Polyethylene Terephthalate Film, Sheet, and Strip From the People's Republic of China: Final Results of Antidumping Duty Administrative Review and Final Determination of No Shipments; 2012-2013

AGENCY: Enforcement and Compliance, International Trade Administration, Department of Commerce.

SUMMARY: On December 5, 2014, the Department of Commerce (the “Department”) published its Preliminary Results in the 2012-2013 administrative review of the antidumping duty order on polyethylene terephthalate film, sheet, and strip from the People's Republic of China (PRC).¹ The period of review (“POR”) is November 1, 2012, through October 31, 2013. This review covers four companies: Shaoxing Xiangyu Green Packing Co. Ltd. (“Green Packing”) and Tianjin Wanhua Co., Ltd. (“Wanhua”), which were subject to individual examination, as well as Fuwei Films (Shandong) Co., Ltd. (“Fuwei Films”) and Sichuan Dongfang Insulating Material Co., Ltd., (“Dongfang”).² Based on our analysis of the comments received, we made certain changes to our margin calculations for Wanhua. The final dumping margins for this review are listed in the “Final Results” section below.

¹ See Polyethylene Terephthalate Film, Sheet, and Strip from the People's Republic of China: Preliminary Results of Antidumping Duty Administrative Review, Preliminary Determination of No Shipments and Partial Rescission of Review; 2012-2013, 79 FR 72166 (December 5, 2014) (Preliminary Results), and accompanying Preliminary Decision Memorandum. The Department notes that Fuwei Films and Dongfang had no reviewable entries.

² The review of Huangshi Yucheng Trade Co., Ltd. was rescinded. See Preliminary Results.

DATES: Effective Date: June 11, 2015.

FOR FURTHER INFORMATION CONTACT: Thomas Martin or Jonathan Hill, AD/CVD Operations, Office IV, Enforcement and Compliance, International Trade Administration, U.S. Department of Commerce, 14th Street and Constitution Avenue NW., Washington, DC 20230; telephone: (202) 482-3936 or (202) 482-3518, respectively.

Background

On December 5, 2014, the Department published its Preliminary Results in this review. We received case briefs from Mitsubishi Polyester Film, Inc. and SKC, Inc. (collectively “Petitioners”), Green Packing, and Wanhua on January 14, 2015.³ On January 26, 2015, Petitioners and Wanhua submitted rebuttal briefs.⁴ On March 23, 2015, Green Packing and Wanhua resubmitted case briefs and Petitioners resubmitted its rebuttal brief ⁵ to redact certain untimely new factual information.

³ See Letter from Petitioners to the Secretary of Commerce, “Polyethylene Terephthalate Film, Sheet, and Strip from the People's Republic of China: Petitioners' Case Brief,” dated January 14, 2015. Also, on January 14, 2015, the Department received a letter in lieu of a case brief from Terphane, Inc., in which Terphane, Inc. states that it supports the Department preliminary results and arguments made by Petitioners in Petitioners' case brief. See Wanhua's and Green Packing's resubmitted case briefs dated March 23, 2015.

⁴ See Letter from Wanhua to the Secretary of Commerce, “Polyethylene Terephthalate (PET) Film from the People's Republic of China; A-570-924; Rebuttal Brief,” dated January 26, 2015 (“Wanhua Rebuttal Brief”). Also, on January 26, 2015, the Department received a letter in lieu of a rebuttal brief from Terphane, Inc., in which Terphane, Inc. states that it supports all arguments made by Petitioners in Petitioners' case brief. See Petitioners resubmitted rebuttal brief dated March 23, 2015.

⁵ See Letter from Green Packing to the Secretary of Commerce “Polyethylene Terephthalate (PET) Film from China,” dated March 23, 2015; see also letter from Wanhua to the Secretary of Commerce, “Polyethylene Terephthalate (PET) Film from the People's Republic of China; A-570-924; Resubmission of Case Brief,” dated March 23, 2015; see also letter from Petitioners to the Secretary of Commerce, “Polyethylene Terephthalate Film, Sheet, and Strip from the People's Republic of China: Resubmission of Petitioners' Rebuttal Brief,” dated March 23, 2015.

Scope of the Order

The products covered by the order are all gauges of raw, pre-treated, or primed PET film, whether extruded or co-extruded. PET film is classifiable under subheading 3920.62.00.90 of the Harmonized Tariff Schedule of the United States (“HTSUS”). Although the HTSUS subheadings are provided for convenience and customs purposes, our written description of the scope of the order is dispositive.

For the full text of the scope of the order, see Memorandum to Ronald K. Lorentzen, Acting Assistant Secretary for Enforcement and Compliance from Christian Marsh, Deputy Assistant Secretary for Antidumping and Countervailing Duty Operations, “Issues and Decision Memorandum for the Final Results of the 2012-2013 Administrative Review,” (“Issues and Decision Memorandum”), dated concurrently with this notice.

Analysis of Comments Received

All issues raised in the case and rebuttal briefs filed by parties in this review are addressed in the Issues and Decision Memorandum, which is hereby adopted by this notice. A list of the issues that parties raised and to which we responded in the Issues and Decision Memorandum follows as an appendix to this notice. The Issues and Decision Memorandum is a public document and is on file electronically via Enforcement and Compliance's Antidumping and Countervailing Duty Centralized Electronic Service System (“ACCESS”). ACCESS is available to registered users at http://access.trade.gov and in the Central Records Unit, Room 7046 of the main Department of Commerce building. In addition, a complete version of the Issues and Decision Memorandum can be accessed directly on the Internet at http://enforcement.trade.gov/frn/. The paper copy and electronic version of the Issues and Decision Memorandum are identical in content.

Changes Since the Preliminary Results

Based on a review of the record and comments received from interested parties regarding our Preliminary Results, we revised the margin calculations for Wanhua. Specifically, we corrected two errors in our calculations by deducting marine insurance expenses ⁶ and value added taxes ⁷ from Wanhua's U.S. sales prices, both of which we inadvertently failed to deduct in the Preliminary Results.

⁶ See Issues and Decision Memorandum at Comment 6.

⁷ See Memorandum from Jonathan Hill, International Trade Compliance Analyst to Howard Smith, Program Manager, AD/CVD Operation, Office IV “Analysis for the Final Results of the 2012-2013 Administrative Review of the Antidumping Duty Order on Polyethylene Terephthalate Film, Sheet and Strip from the People's Republic of China: Tianjin Wanhua Co., Ltd.,” dated concurrently with this notice.

Final Determination of No Shipments

For these final results, the Department continues ⁸ to find that Fuwei Films and Dongfang did not have any reviewable entries during the POR.⁹

⁸ See Preliminary Results and accompanying Preliminary Decision Memorandum at “Preliminary Determination of No Shipments.”

⁹ See Issues and Decision Memorandum at Comment 1.

Final Results

We determine that the following weighted-average dumping margins exist for the POR:

Exporter | Weighted- average dumping margin (percentage)
Shaoxing Xiangyu Green Packing Co. Ltd | 35.10
Tianjin Wanhua Co., Ltd | 72.15

Assessment Rates

The Department will determine, and U.S. Customs and Border Protection (“CBP”) shall assess, antidumping duties on all appropriate entries covered by this review. The Department intends to issue assessment instructions to CBP 15 days after the publication date of these final results of this review. In accordance with 19 CFR 351.212(b)(1), we are calculating importer- (or customer-) specific assessment rates for the merchandise subject to this review. For any individually examined respondent whose weighted-average dumping margin is above de minimis (i.e., 0.50 percent), the Department will calculate importer- (or customer)-specific assessment rates for merchandise subject to this review. Where appropriate, we calculated a per-unit rate for each importer (or customer) by dividing the total dumping margins for reviewed sales to that party by the total sales quantity associated with those transactions. For duty-assessment rates calculated on this basis, we will direct CBP to assess the resulting per-unit rate against the entered quantity of the subject merchandise.¹⁰ We will instruct CBP to assess antidumping duties on all appropriate entries covered by this review when the importer-specific assessment rate is above de minimis. Where either the respondent's weighted-average dumping margin is zero or de minimis, or an importer-specific assessment rate is zero or de minimis, we will instruct CBP to liquidate the appropriate entries without regard to antidumping duties.

¹⁰ See Antidumping Proceedings: Calculation of the Weighted-Average Dumping Margin and Assessment Rate in Certain Antidumping Proceedings: Final Modification, 77 FR 8101, 8103 (February 14, 2012).

For entries that were not reported in the U.S. sales database submitted by an exporter individually examined during this review, the Department will instruct CBP to liquidate such entries at the PRC-wide rate (i.e., 76.72 percent).¹¹ Additionally, if the Department determines that an exporter under review had no shipments of the subject merchandise, any suspended entries that entered under that exporter's case number will be liquidated at the PRC-wide rate.

Cash Deposit Requirements

The following cash deposit requirements will be effective upon publication of the final results of this administrative review for shipments of the subject merchandise from the PRC entered, or withdrawn from warehouse, for consumption on or after the publication date of this notice in the Federal Register, as provided by section 751(a)(2)(C) of the Act: (1) For the exporters listed above, the cash deposit rate will be the rate listed for each exporter in the table in the “Final Results” section of this notice; (2) for previously investigated or reviewed PRC and non-PRC exporters that received a separate rate in a prior segment of this proceeding, the cash deposit rate will continue to be the existing exporter-specific rate; (3) for all PRC exporters of subject merchandise that have not been found to be entitled to a separate rate, the cash deposit rate will be the rate previously established for the PRC-wide entity; and (4) for all non-PRC exporters of subject merchandise which have not received their own rate, the cash deposit rate will be the rate applicable to the PRC exporter that supplied that non-PRC exporter. These deposit requirements, when imposed, shall remain in effect until further notice.

Disclosure

We intend to disclose the calculations performed for these final results of review within five days of the date of publication of this notice in the Federal Register in accordance with 19 CFR 351.224(b).

Notification to Importers Regarding the Reimbursement of Duties

This notice also serves as a final reminder to importers of their responsibility under 19 CFR 351.402(f) to file a certificate regarding the reimbursement of antidumping duties prior to liquidation of the relevant entries during this POR. Failure to comply with this requirement could result in the Secretary's presumption that reimbursement of antidumping duties has occurred and the subsequent assessment of double antidumping duties.

Administrative Protective Order (“APO”)

This notice also serves as a reminder to parties subject to APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

We are issuing these results of administrative review and publishing notice in accordance with sections 751(a)(1) and 777(i) of the Act.

Dated: June 3, 2015.
Ronald K. Lorentzen,
Acting Assistant Secretary for Enforcement and Compliance.

Appendix—Issues and Decision Memorandum

Summary

Scope of the Order

Discussion of the Issues

I. General Issues

Comment 1: Respondent Selection

Comment 2: Surrogate Country Selection

A. Whether South Africa is a Significant Producer of Comparable Merchandise

B. Quality of the Indonesian and South African Surrogate Value Data

C. Surrogate Financial Statements

Comment 3: SV for Paper Core

II. Company-Specific Issues

Comment 4: Treatment of Green Packing's Reintroduced PET By-Product

Comment 5: Value-Added Tax (“VAT”) Adjustment to Wanhua's U.S. Sales Price

Comment 6: Deduction of Marine Insurance from Wanhua's U.S. Sales Prices

Recommendation

[FR Doc. 2015-14349 Filed 6-10-15; 8:45 am]

BILLING CODE 3510-DS-P